DEPARTMENT OF ENERGY

Environmental Management Site-Specific Advisory Board, Idaho National Engineering and Environmental Laboratory

AGENCY: Department of Energy.

ACTION: Notice of Open Meeting.

SUMMARY: This notice announces a meeting of the Environmental Management Site-Specific Advisory Board (EM SSAB), Idaho National Engineering and Environmental Laboratory. The Federal Advisory Committee Act (Pub. L. 92-463, 86 Stat. 770) requires that public notice of these meetings be announced in the Federal Register.

DATES: Monday, July 8, 2002, 10 a.m.

This meeting will be conducted via conference call. To participate in the conference call, interested individuals are invited to call (208) 522-1662 to obtain the pass code. The public will be given an opportunity for comments.

FOR FURTHER INFORMATION CONTACT: Ms. Wendy Lowe, Idaho National Engineering and Environmental Laboratory (INEEL) Citizens' Advisory Board (CAB) Facilitator, Jason Associates Corporation, 477 Shoup Avenue, Suite 205, Idaho Falls, ID 83402, Phone (208) 522-1662 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda: This meeting will focus on one topic only: the Draft Performance Management Plan, which describes implementation of accelerated cleanup at the Idaho National Engineering and Environmental Laboratory. The draft Performance Management Plan was written to implement a previously signed letter of intent with the State of Idaho and the Environmental Protection Agency. (Copies of the draft Performance Management Plan ave available on the INEEL Internet home page at http://www.inel.gov. It can also be obtained by calling Brad Bugger, DOE-ID stakeholder involvement coordinator, at (208) 526-0833, or by e-mail at buggerbp@id.doe.gov.) The Board's DOE Budget Committee will develop the draft recommendation considered by the INEEL CAB.

Public Participation: This meeting is open to the public. Written statements may be filed with the Board facilitator either before or after the meting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Wendy Lowe, INEEL CAB Facilitator, Jason Associates Corporation, 477 Shoup Avenue, Suite 205, Idaho Falls, ID 83402 or by calling (208) 522-1662.

Issued at Washington, DC, on June 18, 2002.
Rachel Samuel,
Deputy Advisory Committee Management Officer.

[FR Doc. 02-15857 Filed 6-21-02; 8:45 am]

BILLING CODE 6450-01-P